ENVIRONMENTAL PROTECTION AGENCY

[EPA-HQ-OAR-2004-0082; FRL-9930-19-OEI]

Information Collection Request Submitted to OMB for Review and Approval; Comment Request; EPA's Natural Gas STAR Program (Renewal)

AGENCY: Environmental Protection Agency (EPA).

ACTION: Notice.

SUMMARY: The Environmental Protection Agency has submitted an information collection request (ICR), “EPA's Natural Gas STAR Program” (EPA ICR No. 1736.07, OMB Control No. 2060-0328) to the Office of Management and Budget (OMB) for review and approval in accordance with the Paperwork Reduction Act (44 U.S.C. 3501 et seq.). This is a proposed extension of the ICR, which is currently approved through September 30, 2015. Public comments were previously requested via the Federal Register (80 FR 17742) on April 2, 2015, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before September 14, 2015.

ADDRESSES: Submit your comments, referencing Docket ID No. EPA-HQ-OAR-2004-0082, to (1) EPA online using www.regulations.gov (our preferred method), by email to a-and-r-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Jerome Blackman, Office of Atmospheric Programs, Climate Change Division, mail code: 6207A, Environmental Protection Agency, 1200 Pennsylvania Ave. NW., Washington, DC 20460; telephone number: 202-343-9630; fax number: 202-343-2342; email address: Blackman.Jerome@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Natural Gas STAR is a voluntary program sponsored by the U.S. Environmental Protection Agency (EPA) that encourages oil and natural gas companies to adopt cost effective technologies and practice that improve operational efficiency and reduce methane emissions. Methane is the primary component of natural gas and a potent greenhouse gas. The Program works with oil and natural gas companies in the production, gathering & processing, transmission, and distribution sectors to remove barriers that inhibit the implementation of technologies and practices that reduce methane emissions. The Program effectively promotes the adoption of emission reduction technologies and practices by helping Natural Gas Star partners evaluate Best Management Practices (BMPs) and Partner Reported Opportunities (PROs) in the context of their current operations, and implement them where cost effective. Implementation of the Program's BMPs and PROs saves participant money, improves operational efficiency, and enhances the protection of the environment.

Form Numbers: 5900-105, 5900-96, 5900-98, 5900-101, 5900-108, 5900-103, 5900-109, 5900-97, 5900-100, 5900-106, 5900-104, 5900-95, 5900-99, 5900-102, and 5900-107.

Respondents/affected entities: The gathering and processing, production, transmission, and distribution sectors of the natural gas industry and the oil production sector.

Respondent's obligation to respond: Voluntary.

Estimated number of respondents: 124 (total).

Frequency of response: Annual, semi-annual.

Total estimated burden: 6,995 hours (per year). Burden is defined at 5 CFR 1320.03(b).

Total estimated cost: $390,185 (per year), there are no capital/start-up costs or O&M costs associated with this information collection.

Changes in the Estimates: There is an increase of 1,794 hours in the total estimated respondent burden compared with the ICR currently approved by OMB. This increase is due to information provided by partners consulted that the last estimate did not reflect the full average time burden of participation.

Courtney Kerwin,
Director, Collection Strategies Division.

[FR Doc. 2015-19935 Filed 8-12-15; 8:45 am]

BILLING CODE 6560-50-P